DEPARTMENT OF COMMERCE

National Oceanic and Atmospheric Administration

[I.D. 021607H]

Notice of Intent to Prepare an Environmental Assessment for Implementation of the Convention on the Conservation and Management of Highly Migratory Fish Stocks in the Western and Central Pacific Ocean

AGENCY: National Marine Fisheries Service (NMFS), National Oceanic and Atmospheric Administration (NOAA), Commerce.

ACTION: Notice; intent to prepare an environmental assessment; request for written comments.

SUMMARY: NMFS announces its intent to prepare an Environmental Assessment (EA) in accordance with the National Environmental Policy Act of 1969 (NEPA) on the immediate Federal actions required to implement the Convention on the Conservation and Management of Highly Migratory Fish Stocks in the Western and Central Pacific Ocean (Convention). Although NEPA does not require publication of a notice-of-intent (NOI) to prepare an EA or a formal scoping process, it encourages public input opportunities. Therefore, NMFS is issuing this NOI to facilitate public involvement. The scoping process for the EA will include a 30-day period for submission of written comments on issues the U.S. should consider when, once a party to the Convention, implementing its relevant provisions.

DATES: Comments must be received by 5 p.m., local time, on March 28, 2007.

ADDRESSES: You may submit written comments by any of the following methods:

• E-mail: initialaction.wcpfc@noaa.gov. Include in the subject line the following document identifier: “Scoping for Initial Action WCPFC”. E-mail comments, with or without attachments, are limited to 5 megabytes.

• Mail or Hand Delivery: William L. Robinson, Regional Administrator, National Marine Fisheries Service, Pacific Islands Region, 1601 Kapiolani Blvd. Suite 1110, Honolulu, HI 96814.

• Fax: (808) 973-2941.

FOR FURTHER INFORMATION CONTACT: Tom Graham, NMFS, Pacific Islands Region; telephone: (808) 944-2200; fax: (808) 973-2941; e-mail: tom.graham@noaa.gov.

SUPPLEMENTARY INFORMATION:

Background on the Convention

The Convention was opened for signature in Honolulu on September 5, 2000, and entered into force in June 2004. The Convention established a management body called the Western and Central Pacific Fisheries Commission (Commission), comprised of those States and entities that are bound to the Convention. The United States played an active role during all of the negotiating sessions and the preparatory conferences prior to entry into force. Domestic procedures allowing for U.S. adherence to the Convention, and thus membership to the Commission, are currently being processed by the Administration. Upon completion of these procedures, and action by the President, the U.S. will deposit its instrument of accession with the Convention's depository in 2007, and become a party to the Convention and a Member of the Commission. The Territories of Guam and American Samoa, and the Commonwealth of the Northern Mariana Islands will also be eligible to participate in the Commission, in accordance with provisions of the Convention and the Commission's Rules of Procedure governing the participation of territories.

The current Parties to the Convention are: Australia, Canada, China, Cook Islands, European Community, Federated States of Micronesia, Fiji, France (extends to French Polynesia, New Caledonia and Wallis and Futuna), Japan, Kiribati, Korea, Marshall Islands, Nauru, New Zealand (extends to Tokelau), Niue, Palau, Papua New Guinea, Philippines, Samoa, Solomon Islands, Tonga, Tuvalu, and Vanuatu. Chinese Taipei (Taiwan), as a fishing entity, has also agreed to be bound by the Convention.

The Convention Area comprises approximately all waters of the Pacific Ocean to the west of the 150 meridian of west longitude. A map showing the exact boundaries of the Convention Area can be found on the Commission's website at: http://www.wcpfc.int/pdf/Map.pdf.

Initial Action by NMFS Necessary to Implement the Convention

The United States will implement the provisions of the Convention within the area of application of the Convention (the Convention Area) under authority of the Western and Central Pacific Fisheries Convention Implementation Act (WCPFCIA), and possibly under authorities of the High Seas Fishing Compliance Act of 1995 (HSFCA), the Magnuson-Stevens Fishery Conservation and Management Act (MSA), the South Pacific Tuna Act of 1988 (SPTA), and other applicable law.

The HSFCA implements the Agreement to Promote Compliance with International Conservation and Management Measures by Fishing Vessels on the High Seas, adopted by the Conference of the Food and Agriculture Organization of the United Nations on November 24, 1993, and establishes a system of permitting, reporting, and regulation for U.S. vessels fishing on the high seas. The MSA governs the conduct of U.S. fisheries that operate in federal waters (and in certain circumstances in both federal waters and beyond federal waters on the high seas), primarily through fishery management plans developed by the Regional Fishery Management Councils and approved by the Secretary of Commerce. The SPTA implements the Treaty on Fisheries between the Governments of Certain Pacific Island States and the Government of the United States of America, and includes licensing and other requirements and restrictions for U.S. purse seine vessels fishing in the area of application of the Treaty.

The WCPFCIA, which implements the Convention, was enacted in January 2007. Authority to administer and enforce the WCPFCIA, including to promulgate regulations, is given to the Secretary of Commerce (Secretary). The Secretary is directed to consult with the Secretary of State, the agency in which the Coast Guard is operating, and other appropriate departments and agencies of the United States in promulgating regulations.

To implement the Convention for the United States, NMFS will need to take some actions immediately and some actions in the future. Certain Convention provisions require no action on the part of NMFS because the United States is already compliant as a result of existing legal requirements.

The actions considered in this EA, collectively referred to here as NMFS' “initial action”, are limited to the Convention provisions that are ready for implementation. These are related to the basic and specific provisions and requirements in the Convention that require no further action by the Commission for NMFS to be able to develop and implement regulations. It is important that this initial action be taken immediately to ensure the United States is able to meet its obligations under the WCPFCIA and that U.S. vessels operating in the Convention Area are in compliance with the Convention.

Examples of Convention provisions that NMFS considers ready for initial action include the following: authorizing vessels fishing for highly migratory fish stocks on the high seas in the Convention Area; requiring that vessels accommodate observers from the regional vessel observer program; requiring that U.S. vessels accept boarding and inspection by authorized inspectors of other members while on the high seas in the Convention Area; requiring vessels on the high seas in the Convention Area to carry and use position-fixing transmitters as part of a vessel monitoring system (VMS); and prohibiting (with certain exemptions) purse seine vessels from transshipping at sea within the Convention Area.

In the case of the authorization-to-fish requirement, reasonable alternatives for agency action might include: rely solely on the current high seas permitting requirements under the HSFCA (no action alternative); develop a specific Convention-related endorsement requirement linked to the already-required HSFCA permits; or introduce a new stand-alone WCPFC permit requirement.

Certain Convention provisions ready for initial action, such as the prohibition on at-sea transshipping by purse seiners (subject to any specific exemptions adopted by the Commission), leave no room for the development of reasonable alternatives. In such cases, that is, when the agency has no discretion in how to implement a provision, NEPA does not apply.

The United States is currently partially compliant with some Convention provisions. The VMS requirements are an example. United States' purse seine and longline vessels operating in the Convention Area are currently required under the SPTA and MSA to carry VMS transmitters if directed by NMFS; provision of the transmitters' signals to the Commission is the only action needed for compliance. However, a small number of distant-water albacore troll vessels that operate in the Convention Area are not currently required to carry VMS transmitters. NMFS will likely need to consider alternatives related to the installation of the transmitters and their maintenance.

While the initial action generally will not include the Commission's Conservation and Management Measures (CMMs), some CMMs adopted by the Commission are simply further elaborations on procedures for basic Convention provisions; for example, CMM 2006-08, on high seas boarding and inspection procedures, establishes the procedures needed to activate the Convention's basic provision on high seas boarding and inspection. CMMs such as this one are considered ready for initial action and will be considered with their underlying Convention provisions in this EA.

Examples of Convention provisions that are not ready for initial action are those that require further elaboration by the Commission, and most CMMs adopted by the Commission. Some CMMs may be partially or fully implemented under the MSA. The roles of the Western Pacific, Pacific, and North Pacific Fishery Management Councils in such cases will be clarified, in part based on a memorandum of understanding between the Secretary and the councils, that is to be developed under the WCPFCIA. In any case, these actions are outside the scope of this EA.

The full text of the Convention can be obtained from the Commission's website at: http://www.wcpfc.int/convention.htm.

At this time, NMFS is not considering authorizing new fisheries and no major changes to the operations of current fisheries in the Convention Area are anticipated. The U.S. purse-seine, longline, and distant-water troll fleets that operate in the Convention Area are currently subject to permitting and other requirements under the HSFCA, MSA, and SPTA and the conduct of these fisheries has been analyzed elsewhere with respect to NEPA.

Public Involvement

In late 2005, NMFS held scoping meetings to provide general information about, and seek public input on, potential regulatory and other actions to be taken by the Agency should the United States ratify the Convention and enact implementing legislation (notice published October 19, 2005, at 70 FR 60795). With the enactment of implementing legislation in the form of the WCPFCIA in January 2007, and, following action by the President, the need to fulfill the immediate obligations of the United States under the Convention, NMFS seeks to build on the earlier scoping process and is accepting additional comments on the scope of issues to be included in this EA.

Authority: 16 U.S.C. 1801 et seq.; 16 U.S.C. 5501 et seq.; 16 U.S.C. 973 et seq.; Pub. L. 109-479, 120 Stat. 3575.

Dated: February 20, 2007.
James P. Burgess,
Acting Director, Office of Sustainable Fisheries, National Marine Fisheries Service.

[FR Doc. E7-3240 Filed 2-23-07; 8:45 am]

BILLING CODE 3510-22-S